DEPARTMENT OF JUSTICE

Notice of Lodging of Consent Decree Under the Oil Pollution Act (OPA)

Notice is hereby given that on November 25, 2008, a proposed Consent Decree in the case of U.S., et al. v. Puget Sound Energy, Inc., Civil Action No. 08-5710, was lodged with the United States District Court for the Western District of Washington.

The United States, the State of Washington, the Muckleshoot Indian Tribe and the Puyallup Tribe of Indians filed a complaint concurrently with the Consent Decree alleging that on November 3, 2006, the Crystal Mountain Emergency Generation Facility, an electrical generating facility owned and operated by Puget Sound Energy, Inc. (“PSE”) in Pierce County, Washington, discharged approximately 429 barrels of diesel fuel into waters of the United States or adjoining shorelines. The complaint seeks natural resource damages pursuant to Section 1002(a) of the Oil Pollution Act, 33 U.S. § 2702(a). Under the Consent Decree, PSE will pay $512,856.59 for natural resource damages and $49,614.47 to reimburse damage assessment costs.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to U.S., et al. v. Puget Sound Energy, Inc., D.J. Ref. No. 90-5-1-1-09177/1.

During the comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $5.00 (25 cents per page reproduction cost) payable to the United States Treasury or, if by e-mail or fax, forward a check in that amount to the Consent Decree Library at the stated address.

Robert E. Maher, Jr.,
Assistant Section Chief, Environmental Enforcement Section, Environment and Natural Resources Division.

[FR Doc. E8-30545 Filed 12-23-08; 8:45 am]

BILLING CODE 4410-15-P